DEPARTMENT OF AGRICULTURE

Forest Service

Alpine County Resource Advisory Committee (RAC)

AGENCY: Forest Service, USDA.

ACTION: Notice of meeting.

SUMMARY: The Alpine County Resource Advisory Committee (RAC) will hold a meeting.

DATES: The meeting will be held on April 20, 2010, and will begin at 6 p.m.

The meeting will be held in Alpine County at the Alpine Early Learning Center, 100 Foothill Road, Markleeville, CA 96120.

FOR FURTHER INFORMATION CONTACT: Marnie Bonesteel, RAC Coordinator,

USDA, Humboldt-Toiyabe National Forest, Carson Ranger District, 1536 S. Carson Street, Carson City, NV 89701 (775) 352-1240; E-MAIL mbonesteel@fs.fed.us.

SUPPLEMENTARY INFORMATION: Agenda items to be covered include: (1) Congratulate new members (2) Discuss and vote on committee bylaws and elect a chairperson (3) Review Title II projects and recommend projects for funding (4) Public Comment. The meeting is open to the public. Public input opportunity will be provided and individuals will have the opportunity to address the Committee at that time.

Dated: March 23, 2010.
Genny E. Wilson,
Designated Federal Officer.

[FR Doc. 2010-6998 Filed 3-30-10; 8:45 am]

BILLING CODE 3410-11-M